DEPARTMENT OF TRANSPORTATION

Federal Aviation Administration

14 CFR Part 39

[Docket No. FAA-2022-1574; Project Identifier MCAI-2022-01362-T; Amendment 39-22274; AD 2022-25-18]

RIN 2120-AA64

Airworthiness Directives; BAE Systems (Operations) Limited Airplanes; Correction

AGENCY: Federal Aviation Administration (FAA), DOT.

ACTION: Final rule; request for comment; correction.

SUMMARY: The FAA is correcting an airworthiness directive (AD) that was published in the Federal Register. That AD applies to certain BAE Systems (Operations) Limited Model BAe 146 and Model Avro 146-RJ series airplanes. As published, the identity of certain airplanes in the preamble and regulatory text, and one paragraph reference in the regulatory text, are incorrect. This document corrects those errors. In all other respects, the original document remains the same.

DATES: This correction is effective December 27, 2022. The effective date of AD 2022-25-18 remains December 27, 2022. The date for submitting comments on AD 2022-25-18 remains January 26, 2023.

The Director of the Federal Register approved the incorporation by reference of certain publications listed in this AD as of December 27, 2022 (87 FR 75915, December 12, 2022).

The Director of the Federal Register approved the incorporation by reference of a certain other publication listed in this AD as of May 2, 2005 (70 FR 15574, March 28, 2005; corrected April 14, 2005 (70 FR 19681)).

ADDRESSES:

AD Docket: You may examine the AD docket at regulations.gov under Docket No. FAA-2022-1574; or in person at Docket Operations between 9 a.m. and 5 p.m., Monday through Friday, except Federal holidays. The AD docket contains this correction, the final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For U.K. CAA material incorporated by reference in this AD, contact Civil Aviation Authority, Aviation House, Beehive Ring Road, Crawley, West Sussex RH6 0YR, United Kingdom; telephone +44(0) 330 022 4401; email continued.airworthiness@caa.co.uk; website caa.co.uk.

• For BAE Systems (Operations) Limited service information identified in this AD, contact BAE Systems (Operations) Limited, Customer Information Department, Prestwick International Airport, Ayrshire, KA9 2RW, Scotland, United Kingdom; telephone +44 1292 675207; fax +44 1292 675704; email RApublications@baesystems.com; website baesystems.com/Businesses/RegionalAircraft/index.htm.

• For Messier-Dowty service information identified in this AD, contact Messier-Dowty: Messier Services Americas, Customer Support Center, 45360 Severn Way, Sterling, VA 20166-8910; telephone 703-450-8233; fax 703-404-1621; website techpubs.services/messier-dowty.com.

• You may view this material at the FAA, Airworthiness Products Section, Operational Safety Branch, 2200 South 216th St., Des Moines, WA. For information on the availability of this material at the FAA, call 206-231-3195. It is also available at regulations.gov under Docket No. FAA-2022-1574.

FOR FURTHER INFORMATION CONTACT: Todd Thompson, Aerospace Engineer, Large Aircraft Section, FAA, International Validation Branch, 2200 South 216th St., Des Moines, WA 98198; telephone 206-231-3228; email todd.thompson@faa.gov.

SUPPLEMENTARY INFORMATION:

Comments Invited

The FAA invites you to send any written relevant data, views, or arguments about AD 2022-25-18. Submit comments as instructed in AD 2022-25-18, Amendment 39-22274 (87 FR 75915, December 12, 2022) (AD 2022-25-18).

Background

AD 2022-25-18 requires repetitive inspections for cracking of the main landing gear (MLG) side stay outer links, and corrective actions if necessary. AD 2022-25-18 also provides an optional terminating action for the repetitive inspections, and prohibits the installation of affected parts under certain conditions. That AD applies to certain BAE Systems (Operations) Limited Model BAe 146 and Model Avro 146-RJ series airplanes.

Need for the Correction

As published, the identity of certain airplanes specified in the preamble and regulatory text, and one paragraph reference specified in the regulatory text, are incorrect in AD 2022-25-18.

In three locations in AD 2022-25-18, affected airplanes are incorrectly identified as “Model Avro 146-RJ-RJ70A” airplanes. Those airplanes are correctly identified as “Model Avro 146-RJ70A airplanes.” The errors are located in the “Differences Between This AD and the MCAI” section of the preamble and paragraph (c) of AD 2022-25-18.

In addition, paragraph (l)(1) of AD 2022-25-18 incorrectly refers to paragraph (n) of the AD for the contact information to send requests for approval of alternative methods of compliance. That contact information is correctly found in paragraph (m) of this AD.

Related Service Information Under 1 CFR Part 51

U.K. CAA AD G-2022-0018, dated October 18, 2022, specifies procedures for doing repetitive detailed inspections for cracking of the MLG side stay outer link and replacement if necessary.

The FAA reviewed BAE Systems (Operations) Limited Alert Service Bulletin ASB.32-A189, dated September 16, 2022. This service information identifies the affected parts as MLG side stay outer links having Safran Landing Systems part numbers 200884304, 200884305, 200884346, 200884347, 201105300, 201105301, 201105308, 201105309, 201299300, 201299301, 201299305, or 201299306, and describes procedures for doing, among other actions, repetitive detailed inspections for cracking of MLG side stay outer links and replacement if necessary.

The FAA also reviewed Messier-Dowty Service Bulletin 146-32-147, dated May 29, 2001, which identifies the affected MLG side stay outer links for AD 2005-06-14, Amendment 39-14024 (70 FR 15574, March 28, 2005; corrected April 14, 2005 (70 FR 19681)).

This AD also requires BAE Systems (Operations) Limited Inspection Service Bulletin ISB.32-156, Revision 1, dated July 3, 2001, which the Director of the Federal Register approved for incorporation by reference as of May 2, 2005 (70 FR 15574, March 28, 2005; corrected April 14, 2005 (70 FR 19681)).

This material is reasonably available because the interested parties have access to it through their normal course of business or by the means identified in ADDRESSES.

Correction of Publication

This document corrects multiple errors and correctly adds the AD as an amendment to 14 CFR 39.13. Although no other part of the preamble or regulatory information has been corrected, the FAA is publishing the entire rule in the Federal Register.

The effective date of this AD remains December 27, 2022.

Since this action only corrects a model designation and a paragraph reference, it has no adverse economic impact and imposes no additional burden on any person. Therefore, the FAA has determined that notice and public procedures are unnecessary.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Corrected]

2. The FAA amends § 39.13 by:

a. Removing Airworthiness Directive (AD) 2005-06-14, Amendment 39-14024 (70 FR 15574, March 28, 2005; corrected April 14, 2005 (70 FR 19681)); and

b. Adding the following new AD:

2022-25-18 BAE Systems (Operations) Limited: Amendment 39-22274; Docket No. FAA-2022-1574; Project Identifier MCAI-2022-01362-T.

(a) Effective Date

This airworthiness directive (AD) is effective December 27, 2022.

(b) Affected ADs

This AD replaces AD 2005-06-14, Amendment 39-14024 (70 FR 15574, March 28, 2005; corrected April 14, 2005 (70 FR 19681)) (AD 2005-06-14).

(c) Applicability

This AD applies to BAE Systems (Operations) Limited Model BAe 146-100A, -200A, and -300A airplanes and Model Avro 146-RJ70A, 146-RJ85A, and 146-RJ100A airplanes, certificated in any category, with main landing gear (MLG) side stay outer links having Safran Landing Systems part number 200884304, 200884305, 200884346, 200884347, 201105300, 201105301, 201105308, 201105309, 201299300, 201299301, 201299305, or 201299306.

(d) Subject

Air Transport Association (ATA) of America Code 32, Landing gear.

(e) Unsafe Condition

This AD was prompted by reports of cracking on the shoulders of a main landing gear (MLG) side stay outer link. The FAA is issuing this AD to address cracking of the MLG side stay outer link. The unsafe condition, if not addressed, could lead to failure of the side stay outer link and MLG collapse, which could result in a runway departure, and could result in the engine or wing contacting the ground. The engine or wing contacting the ground could result in damage to the airplane, an increased risk of fire, the airplane flipping, and injury to occupants.

(f) Compliance

Comply with this AD within the compliance times specified, unless already done.

(g) Retained Inspections, With New Terminating Action

This paragraph restates the requirements of paragraph (f) of AD 2005-06-14, with new terminating action. For airplanes having any side stay identified in Messier-Dowty Service Bulletin 146-32-147, dated May 29, 2001: At the applicable time specified in paragraph (g)(1) or (2) of this AD, perform a detailed inspection for cracks of the outer links on the MLG side stays, in accordance with the Accomplishment Instructions of BAE Systems (Operations) Limited Inspection Service Bulletin ISB.32-156, Revision 1, dated July 3, 2001. Repair cracks before further flight in accordance with the Accomplishment Instructions of BAE Systems (Operations) Limited Inspection Service Bulletin ISB.32-156, Revision 1, dated July 3, 2001. Thereafter, repeat the inspection at intervals not to exceed 2,000 flight cycles, until the actions specified in paragraph (h) of this AD have been done or the initial inspection required by paragraph (i) of this AD has been done. Although BAE Systems (Operations) Limited Inspection Service Bulletin ISB.32-156, Revision 1, dated July 3, 2001, specifies to report certain information to the manufacturer, this AD does not require a report.

(1) If the number of flight cycles accumulated on the side stay can be positively determined: Inspect before the accumulation of 2,000 total flight cycles on the side stay, or within 500 flight cycles after May 2, 2005 (the effective date of AD 2005-06-14), whichever occurs later.

(2) If the number of flight cycles accumulated on the side stay cannot be positively determined: Inspect within 500 flight cycles after May 2, 2005 (the effective date of AD 2005-06-14).

(h) Retained Optional Terminating Action for Paragraph (g) of This AD, With No Changes

This paragraph restates the optional terminating action of paragraph (g) of AD 2005-06-14, with no changes. Relocation of each affected grease nipple to the upper surface of the outer link of the MLG side stays terminates the repetitive inspections required by paragraph (g) of this AD, if the relocation action is done in accordance with paragraph 2.C. of the Accomplishment Instructions of BAE Systems (Operations) Limited Inspection Service Bulletin ISB.32-156, Revision 1, dated July 3, 2001.

(i) New Requirements

Except as specified in paragraph (j) of this AD: Comply with all required actions and compliance times specified in, and in accordance with, United Kingdom Civil Aviation Authority AD G-2022-0018, dated October 18, 2022 (U.K. CAA AD G-2022-0018).

(j) Exceptions to U.K. CAA AD G-2022-0018

(1) Where U.K. CAA AD G-2022-0018 refers to its effective date, this AD requires using the effective date of this AD.

(2) The “Remarks” section of U.K. CAA AD G-2022-0018 does not apply to this AD.

(3) Where paragraph (2) of U.K. CAA AD G-2022-0018 refers to “discrepancies (i.e. cracks or other adverse findings),” replace the text “discrepancies (i.e. cracks or other adverse findings),” with “any cracking.”

(4) Where U.K. CAA AD G-2022-0018 refers to ASB.32-A189, this AD requires using BAE Systems (Operations) Limited Alert Service Bulletin ASB.32-A189, dated September 16, 2022.

(k) No Reporting Requirement

Although BAE Systems (Operations) Limited Alert Service Bulletin ASB.32-A189, dated September 16, 2022, specifies to submit certain information to the manufacturer, this AD does not include that requirement.

(l) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the International Validation Branch, send it to the attention of the person identified in paragraph (m) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or the United Kingdom Civil Aviation Authority (U.K. CAA); or BAE Systems (Operations) Limited's U.K. CAA Design Organization Approval (DOA). If approved by the DOA, the approval must include the DOA-authorized signature.

(m) Additional Information

For more information about this AD, contact Todd Thompson, Aerospace Engineer, Large Aircraft Section, FAA, International Validation Branch, 2200 South 216th St., Des Moines, WA 98198; telephone 206-231-3228; email todd.thompson@faa.gov.

(n) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on December 27, 2022.

(i) BAE Systems (Operations) Limited Alert Service Bulletin ASB.32-A189, dated September 16, 2022.

(ii) Messier-Dowty Service Bulletin 146-32-147, dated May 29, 2001.

(iii) United Kingdom Civil Aviation Authority (U.K. CAA) AD G-2022-0018, dated October 18, 2022.

(4) The following service information was approved for IBR on May 2, 2005 (70 FR 15574, March 28, 2005; corrected April 14, 2005 (70 FR 19681)).

(i) BAE Systems (Operations) Limited Inspection Service Bulletin ISB.32-156, Revision 1, dated July 3, 2001.

(ii) [Reserved]

(5) For BAE Systems (Operations) Limited service information identified in this AD, contact BAE Systems (Operations) Limited, Customer Information Department, Prestwick International Airport, Ayrshire, KA9 2RW, Scotland, United Kingdom; telephone +44 1292 675207; fax +44 1292 675704; email RApublications@baesystems.com; website baesystems.com/Businesses/RegionalAircraft/index.htm.

(6) For Messier-Dowty service information identified in this AD, contact Messier-Dowty: Messier Services Americas, Customer Support Center, 45360 Severn Way, Sterling, VA 20166-8910; telephone 703-450-8233; fax 703-404-1621; website techpubs.services/messier-dowty.com.

(7) For U.K. CAA AD G-2022-0018, contact Civil Aviation Authority, Aviation House, Beehive Ring Road, Crawley, West Sussex RH6 0YR, United Kingdom; telephone +44(0) 330 022 4401; email continued.airworthiness@caa.co.uk; website caa.co.uk.

(8) You may view this material at the FAA, Airworthiness Products Section, Operational Safety Branch, 2200 South 216th St., Des Moines, WA. For information on the availability of this material at the FAA, call 206-231-3195. This material may be found in the AD docket at regulations.gov under Docket No. FAA-2022-1574.

(9) You may view this material that is incorporated by reference at the National Archives and Records Administration (NARA). For information on the availability of this material at NARA, email fr.inspection@nara.gov, or go to: www.archives.gov/federal-register/cfr/ibrlocations.html.

Issued on December 21, 2022.
Christina Underwood,
Acting Director, Compliance & Airworthiness Division, Aircraft Certification Service.

[FR Doc. 2022-28211 Filed 12-23-22; 8:45 am]

BILLING CODE 4910-13-P